DEPARTMENT OF COMMERCE

National Oceanic and Atmospheric Administration

RIN 0648-XC791

Fisheries in the Western Pacific; Special Coral Reef Ecosystem Fishing Permit

AGENCY: National Marine Fisheries Service (NMFS), National Oceanic and Atmospheric Administration (NOAA), Commerce.

ACTION: Notice of availability of environmental assessment; request for comments.

SUMMARY: NMFS proposes to issue a Special Coral Reef Ecosystem Fishing Permit that would authorize Kampachi Farms, LLC, to culture and harvest a coral reef ecosystem management unit fish species in a floating pen moored about 5.5 nm off the west coast of the Island of Hawaii in about 6,000 ft of water. This notice informs the public that NMFS prepared a draft environmental assessment (EA) of the potential impacts of the proposed activity.

DATES: Comments on the draft EA must be received by September 3, 2013.

ADDRESSES: You may submit comments on this document, identified by NOAA-NMFS-2013-0125, by either of the following methods:

• Electronic Submission: Submit all electronic public comments via the Federal e-Rulemaking Portal. Go to www.regulations.gov/#!docketDetail;D=NOAA-NMFS-2013-0125, click the “Comment Now!” icon, complete the required fields, and enter or attach your comments.

• Mail: Send written comments to Michael D. Tosatto, Regional Administrator, NMFS Pacific Islands Region (PIR), 1601 Kapiolani Blvd., Suite 1110, Honolulu, HI 96814-4700.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous), and will accept attachments to electronic comments in Microsoft Word, Excel, or Adobe PDF file formats only.

NMFS prepared a draft EA that describe the potential impacts on the human environment that would result from the proposed activity. The draft EA is available from www.regulations.gov.

FOR FURTHER INFORMATION CONTACT: Phyllis Ha, Sustainable Fisheries, NMFS PIR, tel 808-944-2265.

SUPPLEMENTARY INFORMATION: NMFS proposes to issue a Special Coral Reef Ecosystem Fishing Permit to Kampachi Farms, LLC, consistent with Federal regulations for Hawaii fisheries at 50 CFR 665.224, pertaining to management of coral reef ecosystem fisheries, and in accordance with the Fishery Ecosystem Plan for the Hawaii Archipelago (FEP). NMFS would authorize Kampachi Farms to culture and harvest the native coral reef ecosystem management unit fish species kampachi (Seriola rivoliana, marketed as Kona Kampachi®) using a 132 m^3 (approximately 21 feet in diameter) brass-link mesh aquapod (CuPod) tethered to a moored, 28-ft feed vessel. The feed vessel would be connected to a single-point mooring established at around 6,000 feet deep approximately 5.5 nm west of Keauhou Bay, Hawaii. The Velella array (the name for the combined CuPod and vessel) would be located in Federal waters with the exact position depending on wind and currents. It would not be closer than 3 nm to shore.

A special permit is required because the gear proposed for harvesting a coral reef ecosystem management unit species is not currently identified as an approved gear type under the FEP and fishing regulations. If NMFS permits the activity, the applicant would use the Velella array to grow and harvest 2,000 kampachi fingerlings and juveniles. The stock would be first generation offspring of fish obtained from a local hatchery. If approved, NMFS would authorize the activity for one year.

In this draft EA, information indicates that the low rearing density of fishes, established procedures for application of feed, passive flushing and near constant movement in offshore waters are expected to minimize impacts on water quality. The strong brass mesh net material is resistant to biofouling and leaching and the CuPod design includes mesh entry panels that prevent fish escapes.

The array's CuPod and vessel would each have a GPS navigation unit to provide location information in the unlikely case of separation from the mooring. In addition to the applicant's monitoring of the array and surrounding waters, the conditions of the NMFS permit would include requirements for avoiding and reporting protected resources interactions, preventing fish escapes and methods of discarding of dead fish, filing harvest and transshipment reports, and accommodating an observer upon request. These operational features, together with the limited scale and duration of the project, resulted in a preliminary determination that the project would have a very limited impact on the environment.

NMFS expects that the array will aggregate pelagic fish. Fishermen would be able to fish around the array. The small size of the array is not expected to have a large adverse impact on catches by other fishermen in the ocean in west Hawaii.

Kampachi Farms must also obtain a Department of the Army permit from the U.S. Army Corps of Engineers for the proposed mooring. NMFS prepared this draft EA with input and review by the U.S. Army Corps of Engineers. When finalized, the EA will serve as the basis for NMFS to determine whether or not the activity would be a major federal action with the potential for significant environmental impacts. If determined to have major impacts, NMFS would need to prepare an environmental impact statement. The EA will also inform NMFS in its decision about whether to issue the special permit. The U.S. Army Corps of Engineers will use this EA to inform the preparation of its own environmental evaluation in accordance with its internal procedures.

Authority: 16 U.S.C. 1801 et seq.

Dated: August 8, 2013.
Emily H. Menashes,
Deputy Director, Office of Sustainable Fisheries, National Marine Fisheries Service.

[FR Doc. 2013-19607 Filed 8-12-13; 8:45 am]

BILLING CODE 3510-22-P